DEPARTMENT OF THE INTERIOR

National Park Service

National Register of Historic Places; Notification of Pending Nominations and Related Actions

Nominations for the following properties being considered for listing or related actions in the National Register were received by the National Park Service before April 1, 2006. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by May 2, 2006.

John W. Roberts,
Acting Chief, National Register/National Historic Landmarks Program.

CALIFORNIA

San Francisco County

Port of San Francisco Embarcadero Historic District, From Pier 45 to Pier 48, The Embarcadero, San Francisco, 06000372

FLORIDA

Gadsden County

Dezell House, 328 E. 8th St., Greensboro, 06000358

ILLINOIS

Cook County

Bohemian National Cemetery, Roughly bounded by Foster Ave., Pulaski Rd., Bryn Mawr Ave., and the approx. line of Central Park Ave., Chicago, 06000374

Lou Mitchell's Restaurant, (Route 66 through Illinois MPS) 565 W. Jackson Blvd., Chicago, 06000376

Meekerville Historic District, 303 Barry Ave., 325,303-341,344 Wellington Ave., 340 Oakdale Ave., Chicago, 06000383

Du Page County

Dell Rhea's Chicken Basket, (Route 66 through Illinois MPS) 645 Joilet Rd., Hinsdale, 06000375

Lake County

Deerpath Square—Deerpath Hill Estates, (Deerpath Hill Estates: an English Garden Development in Lake Forest, Illinois MPS) Jct. of Deerpath and Deerpath Sq., Lake Forest, 06000377

Hibbard, Frank, Estate House—Deerpath Hill Estates, (Deerpath Hill Estates:an English Garden Development in Lake Forest, Illinois MPS) 301 N. Chiltern Dr., Lake Forest, 06000379

House at 380 Chilten Drive—Deerpath Hill Estates, (Deerpath Hill Estates:an English Garden Development in Lake Forest, Illinois MPS) 380 Chiltern Dr., Lake Forest, 06000378

House at 965 Castlegate Court—Deerpath Hill Estates, (Deerpath Hill Estates:an English Garden Development in Lake Forest, Illinois MPS) 965 Castlegate Court, Lake Forest, 06000382

Montgomery County

Ariston Cafe, (Route 66 through Illinois MPS) 413 Old Route 66, Litchfield, 06000380

Will County

Alternate Route 66, Wilmington to Joilet, (Route 66 through Illinois MPS) IL 53 bet. Wilmington and Joilet, Joilet, 06000381

MASSACHUSETTS

Norfolk County

Holbrook Square Historic District, Roughly N. Franklin St. from Union St. to Linfield St., Holbrook, 06000359

Worcester County

Main Street Historic District, Main, Lincoln, Preston, Walnut Sts., Chestnut Hill Rd., Burns Ave., Millville, 06000360

NEW YORK

Queens County

Broadway—Flushing Historic District, Roughly bounded by 29th Ave., 163rd St., 32nd Ave., 192nd St., 154th and 153rd Sts., Flushing, 06000373

OHIO

Franklin County

Coe, Truman and Sylvia Bull, House, 75 E. Lakeview Ave., Columbus, 06000361

TEXAS

Bexar County

Alamo National Bank Building, 105 S. St. Mary's St., San Antonio, 06000364

Kaufman County

Terrell Carnegie Library, 207 N. Frances St., Terrell, 06000363

Loving County

Loving County Courthouse, Bounded by Pecos St., Collins St., Dallas St., and TX 302, Mentone, 06000362

VIRGINIA

Albemarle County

Limestone, 4401 Limestone Rd., Keswick, 06000366

Bristol Independent City

Euclid Avenue Historic District, Along Sect. of Arlington, Euclid, Fairmount, Glenway, Highland, Lawrence, Piedmont Aves., Chester, Grove, Lindsey, Bristol (Independent City), 06000369

Northampton County

Benjamin's Department Store, 3327 Main St., Exmore, 06000367

Selma, 16237 Courthouse Rd., Eastville, 06000368

Williamsburg Independent City

Merchants Square and Resort Historic District, Boundary St., Duke of Gloucester St., S. England St., Francis St., Henry St. Prince George St., Williamsburg (Independent City), 06000365

WASHINGTON

King County

Medical Dental Building, 509 Olive Way, Seattle, 06000371

Seattle Yacht Club—Main Station, 1807 Hamlin St., Seattle, 06000370

A request for REMOVAL has been received for the following resources:

IOWA

Harrison County

Harrison County Jail 105 S. 1st Ave. Logan, 83004517

MARYLAND

Charles County

Johnsontown Fairgrounds Rd. E of Penn Central RR Tracks La Plata vicinity, 91000610

The comment period has been WAIVED for the following resource:

VIRGINIA

Rockingham County

Breneman—Turner Mill 5036 Turners Mill Ln., Harrisonburg, 06000325

[FR Doc. E6-5673 Filed 4-14-06; 8:45 am]

BILLING CODE 4312-51-P